ENVIRONMENTAL PROTECTION AGENCY

[EPA-HQ-OPP-2010-0012; FRL-8826-8]

Notice of Withdrawal of Pesticide Petitions

AGENCY: Environmental Protection Agency (EPA).

ACTION: Notice.

SUMMARY: This notice announces the withdrawal of pesticide petitions (PPs) 5E4472, 5E4592, 6E4704, 8E7400, and 9E7603. The petitioners either voluntarily withdrew their petitions, or the petitions were administratively withdrawn by EPA.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

Although this action only applies to the petitioners in question, it is directed to the public in general. Since various individuals or entities may be interested, the Agency has not attempted to describe all the specific entities that may be interested in this action. If you have any questions regarding this action, please consult the person listed at the end of the withdrawal summary for the pesticide petition of interest.

B. How Can I Get Copies of this Document and Other Related Information?

EPA has established a docket for this action under docket identification (ID) number EPA-HQ-OPP-2010-0012. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

EPA is announcing the withdrawal of pesticide petitions received under section 408 of the Federal Food, Drug, and Cosmetic Act (FFDCA), 21 U.S.C. 346a, proposing the establishment or modification of regulations in 40 CFR part 174 or part 180 for residues of pesticide chemicals in or on various food commodities.

Pursuant to 40 CFR 180.7(f), a summary of each of the petitions that are the subject of this notice, prepared by the petitioner, was included in a docket EPA created for each rulemaking. The docket for each of the petitions is available on-line at http://www.regulations.gov.

Withdrawals by Petitioners

1. PP 5E4472 (Copper 8-quinolinolate). EPA issued a proposed rule in the Federal Register of June 26, 1996 (61 FR 33058) (FRL-5378-2), (Docket Id No. EPA-HQ-OPP-2010-0390; formerly Docket No. PP 5E4472/P667), which announced the submission of a pesticide petition (PP 5E4472) by American Agricultural Services, Inc., 404 E. Chatham St., Cary, NC 27511. The petition proposed to amend 40 CFR 180.1001(d) (now 40 CFR 180.920) for residues of Copper 8-quinolinolate (CAS Reg. No. 10380-28-6) when used as an inert ingredient not to exceed 4% by weight in pesticide formulations applied to growing crops only. On July 31, 2000, the Agency notified American Agricultural Services, Inc., that it was administratively withdrawing the petition per the company's request. Contact: Karen Samek, (703) 347-8825; e-mail address: samek.karen@epa.gov.

2. PP 5E4592 (DMSO (dimethyl sulfoxide)). EPA issued a notice in the Federal Register of June 25, 1997 (62 FR 34261) (FRL-5719-6), (Docket Id No. EPA-HQ-OPP-2010-0323; formerly Docket No. PF-736) which announced the submission of a pesticide petition (PP 5E4592) by Gaylord Chemical Corporation, P.O. Box 1209, Slidell, LA 70459-1209. The petition proposed to amend 40 CFR 180.1001(d) (now 40 CFR 180.920) for residues of DMSO, (CAS Reg. No. 67-68-5) when used as an inert ingredient in pesticide formulations for use on edible parts of food and feed crops. On April 13, 2010, Gaylord Chemical Company, L.L.C., 420 Willis Avenue, Bogalusa, LA 70427, notified EPA that it was withdrawing this petition. Contact: Karen Samek, (703) 347-8825; e-mail address: samek.karen@epa.gov.

3. PP 6E4704 (α-alkyl (C10-C16)-ω-hydroxypoly(oxyethylene) sulfate and its ammonium, calcium, magnesium, potassium, sodium, and zinc salts; the poly(oxyethylene) content averages 2 moles minimum). EPA issued a proposed rule in the Federal Register of June 4, 1996 (61 FR 28120) (FRL-5369-5), (Docket Id No. EPA-HQ-OPP-2009-0916; formerly Docket No. PP 6E4704/P657) which announced the submission of a pesticide petition (PP 6E4704) by Henkel Corporation, 4900 Este Avenue, Cincinnati, OH 45232-1491. The petition proposed to amend 40 CFR 180.1001(c) and (e) (now 40 CFR 180.910 and 40 CFR 180.930) for residues of (α-alkyl (C10-C16)-ω-hydroxypoly(oxyethylene) sulfate and its ammonium, calcium, magnesium, potassium, sodium, and zinc salts; the poly(oxyethylene) content averages 2 moles minimum) (CAS Reg. Nos. 68585-34-2 and 68891-38-3) when used as an inert ingredient in pesticide formulations applied pre/post harvest or on animals. On August 10, 2009, Lewis & Harrison, 122 C St., NW., Suite 740, Washington, DC 20001, on behalf of Cognis Corporation (formerly Henkel Corporation) notified EPA that it was withdrawing this petition. Contact: Karen Samek, (703) 347-8825; e-mail address: samek.karen@epa.gov.

4. PP 8E7400 (furilazole, 3-dichloroacetyl-5-(2-furanyl)-2,2-dimethyloxazolidine). EPA issued a notice in the Federal Register of October 8, 2008 (73 FR 58962) (FRL-8383-7), (Docket Id No. EPA-HQ-OPP-2008-0672) which announced the submission of a pesticide petition (PP 8E7400) by Monsanto Company, 1300 I Street, NW., Suite 450 East, Washington, DC 20005. The petition proposed to amend the tolerance in 40 CFR 180.471 for residues of furilazole, 3-dichloroacetyl-5-(2-furanyl)-2,2-dimethyloxazolidine (CAS Reg. No. 121776-33-8), when used as an inert ingredient (safener) in pesticide formulations, by increasing the tolerance in or on filed corn, forage to 0.05 parts per million (ppm). On January 20, 2010, Monsanto notified EPA that it was withdrawing this petition. Contact: Karen Samek, (703) 347-8825; e-mail address: samek.karen@epa.gov.

5. PP 9E7603 (Polymerized fatty acid copolymer esters with a minimum number average molecular weight (in amu) 1,200). EPA issued a notice in the Federal Register of October 7, 2009 (74 FR 51597) (FRL-8792-7), (Docket Id No. EPA-HQ-OPP-2009-0693) which announced the submission of a pesticide petition (PP 9E7603) by Croda Inc., 315 Cherry Lane, New Castle, DE. The petition requested that 40 CFR 180.960 be amended by establishing an exemption from the requirement of a tolerance for residues of the following polymerized fatty acid copolymer esters with a minimum number average molecular weight (in amu) 1,200 (CAS Reg. Nos. 1173188-38-9; 1173188-42-5; 1173188-72-1; 1173188-75-4; 1173188-49-2; 1173188-67-4; 1173188-81-2; 1173188-83-4; 1173189-00-8; 1173189-06-4; 1173189-20-2; 1173189-22-4; 1173189-09-7; 1173189-17-7; 1173189-25-7; 1173189-28-0) when used as inert ingredients in pesticide formulations. On March 2, 2010, Croda Inc., notified EPA that it was withdrawing this petition. Contact: Deirdre Sunderland, (703) 603-0851; e-mail address: sunderland.deirdre@epa.gov.

III. Regulatory Assessment Requirements

This action provides notice that various tolerance petitioners have withdrawn, partially or completely, their petitions to establish tolerances. Under 40 CFR 180.8, petitioners are authorized to take such action. Because EPA is merely providing notice of actions of outside parties, the regulatory assessment requirements imposed on rulemaking do not apply to this action.

List of Subjects

Environmental protection, Agricultural commodities, Feed additives, Food additives, Pesticides and pests, Reporting and recordkeeping requirements.

Dated: May 24, 2010.
Daniel J. Rosenblatt,
Acting Director, Registration Division, Office of Pesticide Programs.

[FR Doc. 2010-13540 Filed 6-8-10; 8:45 am]

BILLING CODE 6560-50-S